DEPARTMENT OF DEFENSE

Department of the Air Force

[Docket ID USAF-2009-0006]

Privacy Act of 1974; System of Records

AGENCY: Department of the Air Force, DoD.

ACTION: Notice to Amend a System of Records.

SUMMARY: The Department of Air Force proposes to amend a system of records to its inventory of record systems subject to the Privacy Act of 1974 (5 U.S.C. 552a), as amended.

DATES: The changes will be effective on February 23, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-6488.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: January 13, 2009.
Morgan E. Frazier,
Alternate OSD Federal Register Liaison Officer, Department of Defense.

F036 AF PC B

System Name:

Geographically Separated Unit Copy Officer Effectiveness/Airman Effectiveness Performance Report (June 11, 1997, 62 FR 31793).

Changes:

* * * * *

System Name:

Delete entry and replace with “Geographically Separated Unit Copy Officer/Enlisted Performance Report.”

* * * * *

Categories of individuals covered by the system:

Delete entry and replace with “Military personnel only.

Officers: Applies to Regular Active Duty Air Force/Air National Guard/Air Force Reserve personnel serving in rank/grades Warrant Officer (W-1) through Colonel (0-6).

Enlisted: Applies to active duty personnel in the rank/grades Airman Basic (E-1) through Chief Master Sergeant (E-9); Air National Guard and Air Force Reserve personnel in the rank/grades Staff Sergeant (E-5) through Chief Master Sergeant (E-9).”

Category of records in system:

Delete entry and replace with “Officer Performance Report; Education/Training Report; Enlisted Performance Report; Promotion Recommendation Forms; Letters of Evaluations; Performance Feedback Worksheets; and Retention Recommendation Forms. Description of data contained therein: Name, Social Security Number; active and permanent grades; specialty data; organization location and Personnel Accounting Symbol; period of report; number of days of supervision; performance evaluation scales; assessment of potential, and comments regarding ratings.”

Authority for maintenance of the system:

Delete entry and replace with “10 U.S.C. 8013, Secretary of the Air Force: Power and duties; delegation by; as implemented by Air Force Instruction 36-2406, Officer and Enlisted Evaluation Systems and E.O. 9397 (SSN).”

* * * * *

Storage:

Delete entry and replace with “Maintained in file folders and electronic media storage.”

* * * * *

Notification procedure:

Delete entry and replace with “Individuals seeking to determine whether information about themselves is contained in this system should address written inquiries to Headquarters at Major Subordinate Commands and numbered Air Forces. Official mailing addresses are published as an appendix to the Air Force's compilation of systems of records notices.

Request should contain full name, address, Social Security Number (SSN) and notarized signature.”

Record access procedures:

Delete entry and replace with “Individuals seeking to access records about themselves contained in this system should address written requests to the Headquarters at Major Subordinate Commands and numbered Air Forces. Official mailing addresses are published as an appendix to the Air Force's compilation of systems of records notices.

Request should contain full name, address, Social Security Number (SSN) and notarized signature.”

Contesting record procedures:

Delete entry and replace with “The Air Force rules for accessing records and for contesting contents and appealing initial agency determinations are published in Air Force Instruction 33-332, Privacy Act Program, 32 CFR part 806b; or may be obtained from the system manager.”

Record Source Categories:

Delete entry and replace with “Officer and Enlisted evaluation report data.”

* * * * *

F036 AF PC B

System name:

Geographically Separated Unit Copy Officer/Enlisted Performance Report.

System location:

Headquarters of Major Subordinate Commands and numbered Air Forces. Official mailing addresses are published as an appendix to the Air Force's compilation of systems of records notices.

Categories of individuals covered by the system:

Military personnel only.

Officers: Applies to Regular Active Duty Air Force/Air National Guard/Air Force Reserve personnel serving in rank/grades Warrant Officer (W-1) through Colonel (0-6).

Enlisted: Applies to active duty personnel in the rank/grades Airman Basic (E-1) through Chief Master Sergeant (E-9); Air National Guard and Air Force Reserve personnel in the rank/grades Staff Sergeant (E-5) through Chief Master Sergeant (E-9).

Categories of records in the system:

Officer Performance Report; Education/Training Report; Enlisted Performance Report; Promotion Recommendation Forms; Letters of Evaluations; Performance Feedback Worksheets; and Retention Recommendation Forms. Description of data contained therein: Name, Social Security Number; active and permanent grades; specialty data; organization location and Personnel Accounting Symbol; period of report; number of days of supervision; performance evaluation scales; assessment of potential, and comments regarding ratings.

Authority for maintenance of the system:

10 U.S.C. 8013, Secretary of the Air Force: Power and duties; delegation by; as implemented by Air Force Instruction 36-2406, Officer and Enlisted Evaluation Systems and E.O. 9397 (SSN).

Purpose(s):

Used as a record of individual's past job performance.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices also apply to this system.

Policies and practices for storing, retrieving, accessing, retaining, and disposing of records in the system:

Storage:

Maintained in file folders and electronic media storage.

Retrievability:

Information in the system is retrieved by name.

Safeguards:

Records are accessed by authorized personnel who are properly screened and cleared for need-to-know. Records are stored in locked cabinets or rooms.

Retention and disposal:

Retained in office files until reassignment or separation, then destroyed by tearing into pieces, shredding, pulping, macerating, or burning.

System manager(s) and address:

Headquarters at Major Subordinate Commands and numbered Air Forces. Official mailing addresses are published as an appendix to the Air Force's compilation of systems of records notices.

Notification procedure:

Individuals seeking to determine whether information about themselves is contained in this system should address written inquiries to Headquarters at Major Subordinate Commands and numbered Air Forces. Official mailing addresses are published as an appendix to the Air Force's compilation of systems of records notices.

Request should contain full name, address, Social Security Number (SSN) and notarized signature.

Record access procedures:

Individuals seeking to access records about themselves contained in this system should address written requests to the Headquarters at Major Subordinate Commands and numbered Air Forces. Official mailing addresses are published as an appendix to the Air Force's compilation of systems of records notices.

Request should contain full name, address, Social Security Number (SSN) and notarized signature.

Contesting record procedures:

The Air Force rules for accessing records and for contesting contents and appealing initial agency determinations are published in Air Force Instruction 33-332, Privacy Act Program, 32 CFR part 806b; or may be obtained from the system manager.

Record source categories:

Officer and Enlisted evaluation report data.

Exemptions claimed for the system:

None.

[FR Doc. E9-1238 Filed 1-21-09; 8:45 am]

BILLING CODE 5001-06-P